ENVIRONMENTAL PROTECTION AGENCY

[EPA-HQ-OECA-2011-0506; FRL-9942-82-OEI]

Information Collection Request Submitted to OMB for Review and Approval; Comment Request; NSPS for Small Municipal Waste Combustors (Renewal)

AGENCY: Environmental Protection Agency (EPA).

ACTION: Notice.

SUMMARY: The Environmental Protection Agency has submitted an information collection request (ICR), “NSPS for Small Municipal Waste Combustors (40 CFR part 60, subpart AAAA) (Renewal)” (EPA ICR No. 1900.06, OMB Control No. 2060-0423), to the Office of Management and Budget (OMB) for review and approval in accordance with the Paperwork Reduction Act (44 U.S.C. 3501 et seq.). This is a proposed extension of the ICR, which is currently approved through February 29, 2016. Public comments were previously requested via the Federal Register (80 FR 32116) on June 5, 2015 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before March 30, 2016.

ADDRESSES: Submit your comments, referencing Docket ID Number EPA-HQ-OECA-2011-0506, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Owners and operators of small municipal waste combustors are required to comply with reporting and record keeping requirements for the general provisions of 40 CFR part 60, subpart A, as well as for the applicable standards in 40 CFR part 60, subpart AAAA. This includes submitting initial notification reports, performance tests and periodic reports and results, and maintaining records of the occurrence and duration of any startup, shutdown, or malfunction in the operation of an affected facility, or any period during which the monitoring system is inoperative. These reports are used by EPA to determine compliance with the standards.

Form Numbers: None.

Respondents/affected entities: Small municipal waste combustors (MWCs).

Respondent's obligation to respond: Mandatory (40 CFR part 60, subpart AAAA).

Estimated number of respondents: 4 (total).

Frequency of response: Initially, annually, and semiannually.

Total estimated burden: 15,000 hours (per year). Burden is defined at 5 CFR 1320.3(b).

Total estimated cost: $1,700,000 (per year), which includes $188,000 in annualized capital/startup and/or operation & maintenance costs.

Changes in the Estimates: There is an overall increase in respondent burden from the most recently approved ICR due to an increase of one new source subject to the regulation (i.e. respondent universe). The growth in respondent universe results in an increase in the labor hours, labor costs, number of responses, and O&M costs for the private sector. However, there is a small adjustment decrease in labor hours and O&M cost for the public sector due to refinement in the Agency's estimates and rounding. In this ICR, we have rounded all estimated hours and costs to three significant digits.

Courtney Kerwin,
Acting Director, Collection Strategies Division.

[FR Doc. 2016-04242 Filed 2-26-16; 8:45 am]

BILLING CODE 6560-50-P